FEDERAL COMMUNICATIONS COMMISSION

47 CFR Part 73

[DA 03-627; MB Docket No. 03-57; RM-10565]

Radio Broadcasting Services; Fort Collins, Westcliffe, and Wheat Ridge, CO

AGENCY: Federal Communications Commission.

ACTION: Proposed rule.

SUMMARY: This document requests comments on a petition for rule making filed by Tsunami Communications, Inc., licensee of Station KTCL, Channel 227C, Fort Collins, Colorado, proposing the substitution of Channel 227C0 for Channel 227C at Fort Collins and reallotment of Channel 227C0 to Wheat Ridge, Colorado. The coordinates for Channel 227C0 at Wheat Ridge are 39-40-18 and 105-07-32. To accommodate Channel 227C0 at Wheat Ridge, we shall propose the substitution of Channel 249A for vacant Channel 227A at Westcliffe, Colorado, at coordinates 38-03-21 and 105-30-02. The proposal complies with the provisions of Section 1.420(i) of the Commission's Rules, and therefore, the Commission will not accept competing expressions of interest in the use of Channel 227C0 at Wheat Ridge, Colorado.

DATES: Comments must be filed on or before May 5, 2003, and reply comments on or before May 20, 2003.

ADDRESSES: Secretary, Federal Communications Commission, 445 12th Street, SW., Room TW-A325, Washington, DC 20554. In addition to filing comments with the FCC, interested parties should serve the petitioner's counsel, as follows: Mark N. Lipp, Shook, Hardy & Bacon, 600 14th Street, NW., Suite 800, Washington, DC 20005-2004.

FOR FURTHER INFORMATION CONTACT: Kathleen Scheuerle, Media Bureau, (202) 418-2180.

SUPPLEMENTARY INFORMATION: This is a synopsis of the Commission's Notice of Proposed Rule Making, MB Docket No. 03-57, adopted March 12, 2003, and released March 14, 2003. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Colorado, is amended by removing Channel 227C at Fort Collins, and by removing Channel 227A and adding Channel 249A at Westcliffe and by adding Wheat Ridge, Channel 227C0.

Federal Communications Commission.
John A. Karousos,
Assistant Chief, Audio Division, Media Bureau.

[FR Doc. 03-8402 Filed 4-4-03; 8:45 am]

BILLING CODE 6712-01-P